DEPARTMENT OF LABOR

Employment Standards Administration

Proposed Revision of the Approval of Information Collection Requirements

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning its proposal to extend OMB approval of the information collection: Report of Changes that May Affect Your Black Lung Benefits (CM-929 and CM-929P). A copy of the proposed information collection request can be obtained by contacting the office listed below in the addresses section of this Notice.

DATES: Written comments must be submitted to the office listed in the addresses section below on or before February 11, 2008.

ADDRESSES: Mr. Steven Andoseh, U.S. Department of Labor, 200 Constitution Ave., NW., Room S-3201, Washington, DC 20210, telephone (202) 693-0373, fax (202) 693-1451, E-mail andoseh.steven@dol.gov. Please use only one method of transmission for comments (mail, fax, or E-mail).

SUPPLEMENTARY INFORMATION: I. Background: The Federal Mine Safety and Health Act of 1977, as amended, 30 U.S.C. 936, 30 U.S.C. 941 and 20 CFR 725.533(e) authorizes the Division of Coal Mine Workers' Compensation (DCMWC) to pay compensation to coal miner beneficiaries. Once a miner or survivor is found eligible for benefits, the primary beneficiary is requested to report certain changes that may affect benefits. To ensure that there is a review and update of all claims paid from the Black Lung Disability Trust Fund, and from Social Security cases transferred to the Department of Labor under the Black Lung Consolidation of Administrative Responsibilities Act of 2002, and to help the beneficiary comply with the need to report certain changes, the CM-929 is sent to all appropriate primary beneficiaries. The CM-929 is printed by the Division of Coal Mine Workers' Compensation (DCMWC) computer system with information specific to each beneficiary, such as name, address, number of dependents on record, state workers' compensation information, and amount of current benefits. The beneficiary reviews the information and certifies that the information is current, or provides updated information. The form includes a warning about potential consequences of failure to report changes. DCMWC uses Information Collection OMB 1215-0173, Forms CM-623 and CM-623S, to monitor a representative payee's use of funds paid on a beneficiary's behalf. This is an annual reporting requirement and, while the information collected on OMB 1215-0084 and 1215-0173 is different, the same payees complete both forms, and the same DCMWC claims examiner reviews them. Therefore, DCMWC proposes to incorporate the CM-929 into the CM-623 and CM-623S in those cases that appropriately are now sent both forms. This new, composite form is entitled CM-929P, and will allow respondents to verify information to DCMWC once annually instead of twice, as is now required. This information collection is currently approved for use through June 30, 2008.

II. Review Focus: The Department of Labor is particularly interested in comments which:

* Evaluate whether the proposed collection of information is necessary for the proper performance of the functions of the agency, including whether the information will have practical utility;

* evaluate the accuracy of the agency's estimate of the burden of the proposed collection of information, including the validity of the methodology and assumptions used;

* enhance the quality, utility and clarity of the information to be collected; and

* minimize the burden of the collection of information on those who are to respond, including through the use of appropriate automated, electronic, mechanical, or other technological collection techniques or other forms of information technology, e.g., permitting electronic submissions of responses.

III. Current Actions: The Department of Labor seeks approval for the revision of this currently approved information collection in order to verify the accuracy of information in the beneficiary's claims file, to identify changes in the beneficiary's status, and to ensure that the amount of compensation being paid the beneficiary is accurate.

Type of Review: Revision.

Agency: Employment Standards Administration.

Title: Report of Changes That May Affect Your Black Lung Benefits.

OMB Number: 1215-0084.

Agency Number: CM-929 and CM-929P.

Affected Public: Individuals and Not-for-profit institutions.

Title | Form number | Number of respondents | Number of responses | Avg. time per response | Burden hours
Reporting Burden:
Report of Changes That May Affect Your Black Lung Benefits | CM-929 | 60,900 | 60,900 | 5-8 min. | 5,489
Report of Changes That May Affect Your Black Lung Benefits | CM-929P 9,100 | 9,100 | 6-80 min. | 9,889
Total | 70,000 | 70,000 | 13 min. | 15,378

Total Respondents: 70,000.

Total Annual responses: 70,000.

Average Time per Response: 13 minutes.

Estimated Total Burden Hours: 15,378.

Frequency: Annually.

Total Burden Cost (capital/startup): $0.

Total Burden Cost (operating/maintenance): $0.

Comments submitted in response to this notice will be summarized and/or included in the request for Office of Management and Budget approval of the information collection request; they will also become a matter of public record.

Dated: December 12, 2007.
Hazel Bell,
Acting Chief, Branch of Management Review and Internal Control, Division of Financial Management, Office of Management, Administration and Planning, Employment Standards Administration.

[FR Doc. E7-24041 Filed 12-11-07; 8:45 am]

BILLING CODE 4510-CK-P